FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 27, 2015.

A. Federal Reserve Bank of New York (Ivan Hurwitz, Vice President) 33 Liberty Street, New York, New York 10045-0001:

1. Basswood Capital Management, LLC, New York, New York, and various funds it operates, and Matthew Lindenbaum and Bennett Lindenbaum, both of New York, New York, and various other family members and family related trusts; to collectively acquire voting shares of Bridge Bancorp, Inc., and thereby indirectly acquire voting shares of The Bridgehampton National Bank, both in Bridgehampton, New York.

B. Federal Reserve Bank of Chicago (Colette A. Fried, Assistant Vice President) 230 South LaSalle Street, Chicago, Illinois 60690-1414:

1. Capital Z Partners Centrue AIV, L.P., Capital Z Partners III GP, L.P., Capital Z Partners III GP, Ltd., Capital Z Partners Management, LLC, Bradley E. Cooper, all of New York, New York, and Robert A. Spass, Westfield, New Jersey; to acquire voting shares of Centrue Financial Corporation, Ottawa, Illinois, and thereby indirectly acquire voting shares of Centrue Bank, Streator, Illinois.

C. Federal Reserve Bank of San Francisco (Gerald C. Tsai, Director, Applications and Enforcement) 101 Market Street, San Francisco, California 94105-1579:

1. Castle Creek Capital Partners IV, LP, and individuals or entities that directly or indirectly control Castle Creek Capital Partners IV, LP including Castle Creek Capital IV LLC, Castle Creek Advisors IV LLC, JME Advisory Corp., Legions IV Corp., Mikesell Advisory Corp., Pietrzak Advisory Corp., John M. Eggemeyer, III, Mark G. Merlo, J. Mikesell Thomas and John T. Pietrzak, all of Rancho Santa Fe, California; to acquire voting shares of First NBC Bank Holding Company, and thereby indirectly acquire voting shares of First NBC Bank, both in New Orleans, Louisiana.

2. Castle Creek Capital Partners IV, LP, and individuals or entities that directly or indirectly control Castle Creek Capital Partners IV, LP, including Castle Creek Capital IV LLC, Castle Creek Advisors IV LLC, JME Advisory Corp., Legions IV Corp., Mikesell Advisory Corp., Pietrzak Advisory Corp., John M. Eggemeyer, III, Mark G. Merlo, J. Mikesell Thomas and John T. Pietrzak, all of Rancho Santa Fe, California; to acquire voting shares of Heritage Oaks Bancorp, and thereby indirectly acquire voting shares of Heritage Oaks Bank, both in Paso Robles, California.

Board of Governors of the Federal Reserve System, March 9, 2015.
Michael J. Lewandowski,
Associate Secretary of the Board.

[FR Doc. 2015-05641 Filed 3-11-15; 8:45 am]

BILLING CODE 6210-01-P